DEPARTMENT OF ENERGY

Federal Energy Regulatory Commission

18 CFR Part 40

[Docket No. RM13-6-000]

Electric Reliability Organization Interpretation of Specific Requirements of the Disturbance Control Performance Standard

AGENCY: Federal Energy Regulatory Commission, DOE.

ACTION: Notice of proposed rulemaking.

SUMMARY: Under section 215 of the Federal Power Act, the Federal Energy Regulatory Commission (Commission) proposes to remand the proposed interpretation of Reliability Standard BAL-002-1, Disturbance Control Performance, Requirements R4 and R5, submitted to the Commission for approval by the North American Electric Reliability Corporation, the Commission-certified Electric Reliability Organization. Specifically, the interpretation addresses whether Balancing Authorities and Reserve Sharing Groups are subject to enforcement actions for failing to restore Area Control Error within the 15-minute Disturbance Recovery Period for Reportable Disturbances that exceed the most severe single Contingency. The Commission proposes to remand the proposed interpretation because it changes a requirement of the Reliability Standard, thereby exceeding the permissible scope for interpretations.

DATES: Comments are due July 8, 2013.

ADDRESSES: You may submit comments, identified by docket number by any of the following methods:

• Agency Web site: http://ferc.gov. Documents created electronically using word processing software should be filed in native applications or print-to-PDF format and not in a scanned format.

• Mail/Hand Delivery: Commenters unable to file comments electronically must mail or hand deliver an original and 14 copies of their comments to: Federal Energy Regulatory Commission, Secretary of the Commission, 888 First Street NE., Washington, DC 20426.

FOR FURTHER INFORMATION CONTACT:

Mark Bennett (Legal Information), Office of General Counsel, Federal Energy Regulatory Commission, 888 First Street NE., Washington, DC 20426. (202) 502-8524. mark.bennett@ferc.gov.

Syed Ahmad (Technical Information), Office of Electric Reliability, Federal Energy Regulatory Commission, 888 First Street NE., Washington, DC 20426. (202) 502-8718. syed.ahmad@ferc.gov.

SUPPLEMENTARY INFORMATION:

Notice of Proposed Rulemaking

(Issued May 16, 2013)

1. Under section 215 of the Federal Power Act (FPA), the Commission proposes to remand the proposed interpretation of Reliability Standard BAL-002-1, Disturbance Control Performance, Requirements R4 and R5 submitted to the Commission for approval by the North American Electric Reliability Corporation (NERC), the Commission-certified Electric Reliability Organization (ERO). Specifically, the interpretation addresses whether Balancing Authorities and Reserve Sharing Groups are subject to compliance enforcement actions for failing to restore Area Control Error (ACE) within the 15-minute Disturbance Recovery Period for Reportable Disturbances that exceed the most severe single Contingency (MSSC). For the reasons explained below, the Commission proposes to remand the proposed interpretation because it changes the requirements of the Reliability Standard, thereby exceeding the permissible scope for interpretations. The Commission seeks comments on its proposal.

I. Background

A. Section 215 of the FPA and Standards Development Process

2. Section 215 of the FPA requires a Commission-certified ERO to develop mandatory and enforceable Reliability Standards, subject to Commission review and approval. Specifically, the Commission may approve, by rule or order, a proposed Reliability Standard or modification to a Reliability Standard if it determines that the Standard is just, reasonable, not unduly discriminatory or preferential, and in the public interest.¹ Once approved, the Reliability Standards may be enforced by the ERO, subject to Commission oversight, or by the Commission independently.² Pursuant to section 215 of the FPA, the Commission established a process to select and certify an ERO,³ and subsequently certified NERC.⁴

¹ 16 U.S.C. 824o(d)(2).

² Id. 824o(e)(3).

³ Rules Concerning Certification of the Electric Reliability Organization; and Procedures for the Establishment, Approval, and Enforcement of Electric Reliability Standards, Order No. 672, FERC Stats. & Regs. ¶ 31,204, order on reh'g, Order No. 672-A, FERC Stats. & Regs. ¶ 31,212 (2006).

⁴ North American Electric Reliability Corp., 116 FERC ¶ 61,062, order on reh'g & compliance, 117 FERC ¶ 61,126 (2006), aff'd sub nom. Alcoa, Inc. v. FERC, 564 F.3d 1342 (DC Cir. 2009).

3. In March 2007, the Commission issued Order No. 693, evaluating 107 Reliability Standards, including the Disturbance Control Performance (BAL-002-0) Reliability Standard.⁵ In Order No. 693, the Commission approved BAL-002-0. In addition, pursuant to section 215(d)(5) of the FPA, the Commission directed the ERO to develop a modification to BAL-002-0 through the Reliability Standards development process that: (1) Includes a Requirement that explicitly provides that Demand Side Management may be used as a resource for contingency reserves; (2) develops a continent-wide contingency reserve policy; and (3) refers to the ERO rather than the NERC Operating Committee in Requirements R4.2 and R6.2.⁶ On January 10, 2011, the Commission approved BAL-002-1 via letter order,⁷ which addressed the third directive described above.

⁵ Mandatory Reliability Standards for the Bulk-Power System, Order No. 693, FERC Stats. & Regs. ¶ 31,242 at P 316, order on reh'g, Order No. 693-A, 120 FERC ¶ 61,053 (2007).

⁶ Order No. 693, FERC Stats. & Regs. ¶ 31,242 at P 356.

⁷ North American Electric Reliability Corp., 134 FERC ¶ 61,015 (2011).

4. NERC's Rules of Procedure provide that all persons “directly and materially affected” by Bulk-Power System reliability may request an interpretation of a Reliability Standard.⁸ In response, the ERO will assemble a team with relevant expertise to address the requested interpretation and also form a ballot pool. NERC's Rules of Procedure provide that, within 45 days, the team will draft an interpretation of the Reliability Standard and submit it to the ballot pool. If approved by the ballot pool and subsequently by the NERC Board of Trustees (Board), the interpretation is appended to the Reliability Standard and filed with the applicable regulatory authorities for approval.

⁸ NERC Rules of Procedure, Appendix 3A, Standard Processes Manual, at 27-29. See North American Electric Reliability Corp., 132 FERC ¶ 61,200 (2010) (approving revisions to Standards Process Manual). On February 28, 2013, in pending Docket No. RR13-2-000, NERC submitted proposed revisions to the Standards Process Manual.

5. Further, NERC's Rules of Procedure state that “[a] valid interpretation response provides additional clarity about one or more Requirements, but does not expand on any Requirement and does not explain how to comply with any Requirement.” ⁹

⁹ Id. at 27.

B. Reliability Standard BAL-002-1

6. The stated purpose of BAL-002-1 is to “ensure the Balancing Authority is able to utilize its Contingency Reserve to balance resources and demand and return Interconnection frequency within defined limits following a Reportable Disturbance.” The NERC Glossary of Terms Used in Reliability Standards (Glossary) defines Reportable Disturbance as “[A]ny event that causes an ACE change greater than or equal to 80% of a Balancing Authority's or Reserve Sharing Group's most severe contingency.” ¹⁰

¹⁰ NERC Glossary at 56. NERC defines Area Control Error or “ACE” as “the instantaneous difference between net actual and scheduled interchange, taking into account the effects of Frequency Bias including correction for meter error.” Id. at 5.

7. Reliability Standard BAL-002-1 has six Requirements. Most relevant to the proposed interpretation, Requirements R3 and R4 provide:

R3. Each Balancing Authority or Reserve Sharing Group shall activate sufficient Contingency Reserve to comply with the DCS.

R3.1. As a minimum, the Balancing Authority or Reserve Sharing Group shall carry at least enough Contingency Reserve to cover the most severe single contingency. All Balancing Authorities and Reserve Sharing Groups shall review, no less frequently than annually, their probable contingencies to determine their prospective most severe single contingencies.

R4. A Balancing Authority or Reserve Sharing Group shall meet the Disturbance Recovery Criterion within the Disturbance Recovery Period for 100% of Reportable Disturbances. The Disturbance Recovery Criterion is:

R4.1. A Balancing Authority shall return its ACE to zero if its ACE just prior to the Reportable Disturbance was positive or equal to zero. For negative initial ACE values just prior to the Disturbance, the Balancing Authority shall return ACE to its pre-Disturbance value.

R4.2. The default Disturbance Recovery Period is 15 minutes after the start of a Reportable Disturbance.

Also relevant to the proceeding is the Additional Compliance Information language in Part D of BAL-002-1, which includes:

Reportable Disturbances—Reportable Disturbances are contingencies that are greater than or equal to 80% of the most severe single Contingency . . .

Simultaneous Contingencies—Multiple Contingencies occurring within one minute or less of each other shall be treated as a single Contingency. If the combined magnitude of the multiple Contingencies exceeds the most severe single Contingency, the loss shall be reported, but excluded from compliance evaluation.

II. NERC's Proposed Interpretation of BAL-002-1 (R4 and R5)

8. On February 12, 2013, NERC filed a petition (Petition) seeking approval of the proposed interpretation of BAL-002-1, developed in response to an interpretation request submitted on September 2, 2009 by the Northwest Power Pool Reserve Sharing Group (NWPP). NERC explains that NWPP requested clarification on the following matters:

(1) although a Disturbance that exceeds the most severe single Contingency must be reported by the Balancing Authority or Reserve Sharing Group (as applicable), is the Disturbance excluded from compliance evaluation for the applicable Balancing Authority or Reserve Sharing Group;

(2) with respect to either simultaneous Contingencies or non-simultaneous multiple Contingencies affecting a Reserve Sharing Group, the exclusion from compliance evaluation for Disturbances exceeding the most severe single Contingency applies both when

(a) all Contingencies occur within a single Balancing Authority member of the Reserve Sharing Group, and

(b) different Balancing Authorities within the Reserve Sharing Group experience separate Contingencies that occur simultaneously, or non-simultaneously but before the end of the Disturbance Recovery Period following the first Reportable Disturbance; and

(3) the meaning of the phrase “excluded from compliance evaluation” as used in Section 1.4 (“Additional Compliance Information”) of Part D of BAL-002-0 and for purposes of the preceding statements is that, with respect to Disturbances that exceed the most severe single Contingency for a Balancing Authority or Reserve Sharing Group (as applicable), a violation of BAL-002-0 does not occur even if ACE is not recovered within the Disturbance Recovery Period (15 minutes unless adjusted pursuant to BAL-002-0, R4.2).¹¹

¹¹ NERC Petition at 7.

9. A proposed interpretation was first balloted in February 2010, but failed to achieve a two-third approval from the ballot body.¹² NERC staff determined that any further interpretation could not be developed unless the team could consider the measures and the additional compliance elements of the standard.¹³ In January 2012 NERC staff told the NWPP their interpretation request was “ineligible” under the existing rules for developing interpretations.¹⁴

¹² NERC Petition, Exh. C (Summary of the Interpretation Development Proceedings and Record of Development of Proposed Interpretation) at 1-2.

¹³ Id. at 2. A November 2009 Resolution of the NERC Board that pertained to interpretations included the following passage: “[i]n deciding whether or not to approve a proposed interpretation, the board will use a standard of strict construction and not seek to expand the reach of the standard to correct a perceived gap or deficiency in the standard.”

¹⁴ NERC Petition, Exh. C at 3.

10. ISO/RTO Council appealed this decision, challenging the BAL-002-1 interpretation process. In a March 2012 letter responding to ISO/RTO Council, NERC staff stated: “Given the difficulty in interpreting the existing language of the standard, NERC recommends to the [ISO/RTO Council] and NWPP that they consider developing and submitting a Standard Authorization Request (SAR) to the Standards Committee to address their concern.” ¹⁵

¹⁵ NERC Petition, Exh. C at 3.

11. At its May 2012 meeting, the NERC Board Standards Oversight and Technology Committee (SOTC) concluded that “strict construction for the purposes of interpretation was never meant to limit the materials considered in developing the interpretation solely to the contents of the requirements in a standard, but can include any language in the standard, including compliance related sections.” ¹⁶ The NERC Standards Committee assembled another drafting team that developed a proposed interpretation that received a 90.34 percent approval vote in October 2012. On November 7, 2012, the NERC BOT adopted the proposed interpretation of BAL-002-1.

¹⁶ Id.

12. In its Petition, NERC states that, in response to NWPP's first question, the proposed interpretation clarifies that Balancing Authorities and Reserve Sharing Groups are not subject to the 15-minute Disturbance Recovery Period for Disturbances that exceed the MSSC.

13. With regard to the second question, NERC explained that the proposed interpretation provides that:

[t]he standard was written to provide pre-acknowledged RSG's the same considerations as a single BA for purposes of exclusions from DCS compliance evaluation . . . [T]his applies to both multiple contingencies occurring within one minute or less of each other being treated as a single Contingency or Contingencies that occur after one minute of the start of a Reportable Disturbance but before the end of the Disturbance Recovery Period.

The standard, while recognizing dynamically allocated RSGs, does NOT provide the members of dynamically allocated RSGs exclusions from DCS compliance evaluation on an RSG basis. For members of dynamically allocated RSGs, the exclusions are provided only on a member BA by member BA basis.¹⁷

¹⁷ Id. at 14-15

14. In response to NWPP's third question regarding the exclusion language in the Additional Compliance Information provision of the standard, the drafting team responded:

The Additional Compliance Information section clearly states: “Simultaneous contingencies—Multiple contingencies occurring within one minute or less of each other shall be treated as a single Contingency. If the combined magnitude of the multiple Contingencies exceeds the Most Severe Single Contingency, the loss shall be reported, but excluded from compliance evaluation.”

Although Requirement R3 does mandate that a BA or RSG activate sufficient Contingency Reserves to comply with DCS for every Reportable Disturbance, there is no requirement to comply with or even report disturbances that are below the Reportable Disturbance level. The averaging obligation does incent calculation and reporting of such lesser events. If a Balancing Authority were to experience a Disturbance five times greater than its most severe single Contingency, it would be required to report this Disturbance, but would not be required to recover ACE within 15 minutes following a Disturbance of this magnitude.

An excludable disturbance is a disturbance whose magnitude was greater than the magnitude of the most severe single contingency. Any other proposed interpretation would result in treating BAL-002-0 as if it required Balancing Authorities and Reserve Sharing Groups to recover ACE (to zero or pre-Disturbance levels, as applicable) within the 15-minute Disturbance Recovery Period without regard to Disturbance magnitude. This is inconsistent with (a) the reserve requirement specified in R3.1 of BAL-002-0, (b) the text of Section 1.4 of Part D of BAL-002-0, and (c) the documented history of the development of BAL-002-0 . . .¹⁸

¹⁸ NERC Petition at 16.

15. NERC contends that BAL-002-1 is intended to be read as “an integrated whole” and therefore uses the phrase “excluded from compliance evaluation” that appears in Part D, Section 1.5 (“Additional Compliance Information”) as support for concluding that the 15-minute Disturbance Recovery Period contained in Requirement R4 of BAL-002-1 does not apply to Disturbances that exceed the MSSC.¹⁹

¹⁹ NERC Petition at 10-11.

16. NERC asserts that “the proposed interpretation is necessary to prevent Registered Entities from shedding load to avoid possible violations of BAL-002, a result that is inconsistent with reliability principles.” ²⁰ NERC further asserts that “[i]f the Reliability Standard is interpreted to require that ACE be returned to zero even for a Disturbance that exceeds the most severe single Contingency, a Balancing Authority could be required to take drastic operational actions, even when other measures of system reliability (voltage stability, normal frequency, operation within system operating limits, etc.) indicate otherwise.” NERC adds that “a lack of clarity on the interpretation of [BAL-002] potentially has significant financial and operational impacts on all Balancing Authorities and Reserve Sharing Groups.” ²¹

²⁰ Id. at 3.

²¹ Id. at 12.

17. NERC asserts that the proposed interpretation “neither expands on any Requirement nor explains how to comply with a Requirement.” ²² NERC acknowledges that the proposed interpretation differs from the PacifiCorp Stipulation and Consent Agreement, in which NERC staff and Commission staff determined that PacifiCorp violated BAL-002-0 Requirement R4 by failing to restore its ACE within the 15-minute Disturbance Recovery Period, despite a Disturbance exceeding PacifiCorp's MSSC.²³

²² Petition at 11 (citing NERC Standards Process Manual at 27).

²³ NERC Petition at 16-17 (citing PacifiCorp, 137 FERC ¶ 61,176, at n.5 (2011) (PacifiCorp)).

III. Discussion

18. We propose to remand NERC's interpretation of BAL-002-1 because it fails to comport with the Commission-approved requirement that interpretations can only clarify, not change, a Reliability Standard.²⁴ Rather, changes to a Reliability Standard must be developed through NERC's standards development procedure as prescribed in NERC's Rules of Procedure.²⁵ As discussed below, NERC's proposed interpretation changes Requirement R4 of BAL-002-1 from its plain meaning, and also effectively redefines the term Reportable Disturbance as defined in the NERC Glossary and used in BAL-002-1.

²⁴ NERC Standard Process Manual at 27 (“[a] valid interpretation response provides additional clarity about one or more Requirements, but does not expand on any Requirement . . .). The Commission approved the NERC Standards Process Manual in North American Electric Reliability Corp., 132 FERC ¶ 61,200.

²⁵ NERC Standard Process Manual at 12-14 (explaining the Standards Authorization Request process).

19. NERC's proposal interprets the phrase “excluded from compliance evaluation,” the exclusion language in Part D (Additional Compliance Information), Section 1.5 of BAL-002-1 as limiting the obligation to restore ACE set forth in Requirement R4 of BAL-002-1. As a result, while Requirement R4 of BAL-002-1 provides that a Balancing Authority or Reserve Sharing Group “shall meet the Disturbance Recovery Criterion within the Disturbance Recovery Period [i.e., 15 minutes] for 100 percent of Reportable Disturbances,” the NERC interpretation limits Requirement R4 as applicable to only some Reportable Disturbances.

20. Stated differently, while the term “Reportable Disturbance” is defined by NERC as “contingencies that are greater than or equal to 80% of the most severe single contingency,” the NERC interpretation changes the term to mean contingencies that are greater than or equal to 80 percent of the most severe single contingency but no greater than 100 percent of the most severe single contingency.²⁶ In sum, the proposed interpretation would relieve a Balancing Authority or Reserve Sharing Group from having to restore ACE within 15 minutes of Disturbances that are greater than 100 percent of the most single severe Contingency, notwithstanding that BAL-002-1 Requirement R4 requires that: “[A] Balancing Authority or Reserve Sharing Group shall meet the Disturbance Recovery Criterion within the Disturbance Recovery Period for 100% of Reportable Disturbances.” Thus, NERC's proposal goes beyond interpreting and, instead, changes a requirement of the Reliability Standard.

²⁶ Reliability Standard BAL-002-1, Section D. Compliance, 1.5 (Additional Compliance Information) defines “Reportable Disturbance” as “contingencies that are greater than or equal to 80% of the most severe single contingency.” The definition of “Reportable Disturbance” in the NERC Glossary is “[A]ny event that causes an ACE change greater than or equal to 80% of a Balancing Authority's or reserve sharing group's most severe contingency.” NERC's proposed interpretation is incompatible with both definitions.

21. As mentioned above, NERC's proposed interpretation focuses on the following provision in Part D, Section 1.5 (“Additional Compliance Information”) of BAL-002-1:

Simultaneous Contingencies—Multiple Contingencies occurring within one minute or less of each other shall be treated as a single Contingency. If the combined magnitude of the multiple Contingencies exceeds the most severe single Contingency, the loss shall be reported, but excluded from compliance evaluation.

NERC's proposal, however, is not adequately supported. NERC interprets the exclusion language in the Additional Compliance Information section as relieving Balancing Authorities or Reserve Sharing Groups from having to comply with the ACE restoration obligation in Requirement R4 for certain Disturbances. However, this understanding is not supported by Requirement R4 or the Additional Compliance Information section. Furthermore, NERC does not explain how the proposed interpretation naturally flows from the existing provision.

22. A more natural reading of the standard is that the exclusion language in the Additional Compliance Information section applies to the Levels of Non-Compliance section contained in BAL-002-1, Part D, Section 2, which provides that:

Each Balancing Authority or Reserve Sharing Group not meeting the DCS during a calendar quarter shall increase its Contingency Reserve obligation for the calendar quarter…following the evaluation by the NERC or Compliance Monitor… The increase shall be directly proportional to the non-compliance with the DCS in the preceding quarter. This adjustment … is an additional percentage of reserve needed beyond the most severe single Contingency.”

This language indicates that each Balancing Authority or Reserve Sharing Group is subject to a compliance evaluation conducted by “the NERC or Compliance Monitor” to determine whether it has complied with the Disturbance Control Standard (DCS) and, if the Balancing Authority or Reserve Sharing Group has not complied, make a temporary upward adjustment to its Contingency Reserve. The exclusion language in the Additional Compliance Information section provides that, for multiple contingency Disturbances, the Balancing Authority or Reserve Sharing Group must report the event, but may exclude it from the evaluation of whether an upward adjustment in Contingency Reserves is warranted. NERC does not explain why the exclusion language in the Additional Compliance Information section applies to the ACE restoration obligation in Requirement R4 rather than the reserve obligation review process described in the Levels of Non-Compliance section of BAL-002-1. Thus, while NERC advocates reading the Reliability Standard as “an integrated whole,”²⁷ NERC's interpretation fails to address other relevant language in BAL-002-1.

²⁷ NERC Petition at 10.

23. Accordingly, we propose to remand NERC's proposed interpretation as an impermissible change to BAL-002-1 outside the formal standards development process.²⁸ The Petition goes beyond a clarification by redefining key terms that would change the plain language of a requirement. The Commission seeks comments on its proposal.

²⁸ Our proposal is based on the current wording of BAL-002-1 and does not prejudge the merits of any formal proposal by NERC to replace to or change the wording of BAL-002-1. To the extent NERC and its stakeholders have concerns with the requirements of BAL-002-1, they may seek to address these concerns through the standards development process.

IV. Information Collection Statement

24. The Office of Management and Budget (OMB) regulations require that OMB approve certain reporting and recordkeeping (collections of information) imposed by an agency.²⁹ The information contained here is also subject to review under section 3507(d) of the Paperwork Reduction Act of 1995.³⁰

²⁹ 5 CFR 1320.11.

³⁰ 44 U.S.C. 3507(d).

25. As stated above, the Commission previously approved, in letter order RD10-15, the Reliability Standard that is the subject of the current rulemaking. This proposed rulemaking proposes to remand the Interpretation of BAL-002-1. Accordingly, the proposed Commission action would not affect the information reporting burden.

V. Environmental Analysis

26. The Commission is required to prepare an Environmental Assessment or an Environmental Impact Statement for any action that may have a significant adverse effect on the human environment.³¹ The Commission has categorically excluded certain actions from this requirement as not having a significant effect on the human environment. Included in the exclusion are rules that are clarifying, corrective, or procedural or that do not substantially change the effect of the regulations being amended.³² The actions proposed herein fall within this categorical exclusion in the Commission's regulations.

³¹ Regulations Implementing the National Environmental Policy Act, Order No. 486, 52 FR 47897 (Dec. 17, 1987), FERC Stats. & Regs. Regulations Preambles 1986-1990 ¶ 30,783 (1987).

³² 18 CFR 380.4(a)(2)(ii).

VI. Regulatory Flexibility Act Analysis

27. The Regulatory Flexibility Act of 1980 (RFA) ³³ generally requires a description and analysis of proposed rules that will have significant economic impact on a substantial number of small entities. The RFA mandates consideration of regulatory alternatives that accomplish the stated objectives of a proposed rule and that minimize any significant economic impact on a substantial number of small entities. The Small Business Administration's Office of Size Standards develops the numerical definition of a small business.³⁴ For electric utilities, a firm is small if, including its affiliates, it is primarily engaged in the transmission, generation and/or distribution of electric energy for sale and its total electric output for the preceding twelve months did not exceed four million megawatt hours. The Commission does not expect the proposed remand discussed herein to materially change the cost for small entities to comply with BAL-002-1. Therefore, the Commission certifies that the proposed rule will not have a significant economic impact on a substantial number of small entities.

³³ 5 U.S.C. 601-612.

³⁴ See 13 CFR 121.201.

VII. Comment Procedures

28. The Commission invites interested persons to submit comments on the matters and issues proposed in this notice to be adopted, including any related matters or alternative proposals that commenters may wish to discuss. Comments are due July 8, 2013. Comments must refer to Docket No. RM13-6-000, and must include the commenter's name, the organization they represent, if applicable, and their address in their comments.

29. The Commission encourages comments to be filed electronically via the eFiling link on the Commission's Web site at http://www.ferc.gov. The Commission accepts most standard word processing formats. Documents created electronically using word processing software should be filed in native applications or print-to-PDF format and not in a scanned format. Commenters filing electronically do not need to make a paper filing.

30. Commenters that are not able to file comments electronically must send an original and 14 copies of their comments to: Federal Energy Regulatory Commission, Secretary of the Commission, 888 First Street NE., Washington, DC 20426.

31. All comments will be placed in the Commission's public files and may be viewed, printed, or downloaded remotely as described in the Document Availability section below. Commenters on this proposal are not required to serve copies of their comments on other commenters.

VIII. Document Availability

32. In addition to publishing the full text of this document in the Federal Register, the Commission provides all interested persons an opportunity to view and/or print the contents of this document via the Internet through the Commission's Home Page (http://www.ferc.gov) and in the Commission's Public Reference Room during normal business hours (8:30 a.m. to 5:00 p.m. Eastern time) at 888 First Street NE., Room 2A, Washington DC 20426.

33. From the Commission's Home Page on the Internet, this information is available on eLibrary. The full text of this document is available on eLibrary in PDF and Microsoft Word format for viewing, printing, and/or downloading. To access this document in eLibrary, type the docket number excluding the last three digits of this document in the docket number field.

34. User assistance is available for eLibrary and the Commission's Web site during normal business hours from the Commission's Online Support at (202) 502-6652 (toll free at 1-866-208-3676) or email at ferconlinesupport@ferc.gov, or the Public Reference Room at (202) 502-8371, TTY (202) 502-8659. Email the Public Reference Room at public.referenceroom@ferc.gov.

By direction of the Commission.
Nathaniel J. Davis, Sr.,
Deputy Secretary.

[FR Doc. 2013-12131 Filed 5-21-13; 8:45 am]

BILLING CODE 6717-01-P